DEPARTMENT OF TRANSPORTATION

National Highway Traffic Safety Administration

[Docket No. NHTSA-2017-0083]

Reports, Forms, and Record Keeping Requirements

AGENCY: National Highway Traffic Safety Administration (NHTSA), Department of Transportation (DOT).

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information was published on September 15, 2017.

DATES: Comments must be received on or before January 18, 2018.

ADDRESSES: Send comments regarding the burden estimate, including suggestions for reducing the burden, to the Office of Management and Budget, Attention: NHTSA Desk Officer, 725 17th Street NW, Washington, DC 20503.

Comments are invited on the following:

i. Whether the proposed collection of information is necessary for the proper performance of the functions of the Department, including whether the information will have practical utility;

ii. The accuracy of the Department's estimate of the burden of the proposed information collection;

iii. Ways to enhance the quality, utility, and clarity of the information to be collected, and

iv. Ways to minimize the burden of the collection of information on respondents, including the use of automated collection techniques or other forms of information technology.

FOR FURTHER INFORMATION CONTACT: Ms. Debbie Sweet, NHTSA, 1200 New Jersey Avenue SE, Washington, DC 20590; Telephone (202) 366-7179; Fax: (202) 366-2106; email address: Debbie.Sweet@dot.gov. For access to the docket to read background documents, go to http://www.regulations.gov or the street address listed above. Follow the online instructions for accessing the dockets.

SUPPLEMENTARY INFORMATION:

Title: Automated Driving Systems 2.0: A Vision for Safety.

OMB Clearance Number: 2127-0723.

Type of Request: Modification of a currently approved information collection.

Abstract: In a separate notice published in the Federal Register on September 15, the Department of Transportation announced the publication of Voluntary Guidance titled Automated Driving Systems 2.0: A Vision for Safety. Recognizing the potential that Automated Driving Systems (ADSs) have to enhance safety and mobility, Automated Driving Systems 2.0 sets out to support the safe testing and deployment of Automated Driving Systems (SAE Automation Levels 3 through 5—Conditional, High, and Full Automation Systems as defined in SAE J3016) on public roads. Automated Driving Systems 2.0: A Vision for Safety contains two primary sections: Voluntary Guidance for Automated Driving Systems and Technical Assistance to States.

Consistent with its statutory purpose to reduce traffic crashes and deaths and injuries resulting from traffic crashes, NHTSA is amending its recommendations for recordkeeping and disclosure of information related to automated vehicle technologies by vehicle manufacturers and other entities as described in the Voluntary Guidance section of Automated Driving Systems 2.0: A Vision for Safety. Specifically, NHTSA recommends that manufacturers and other entities assess their ADS-equipped vehicle against specific safety elements (which were developed from industry best practices, existing research, and public input) and document that assessment. Further, the Voluntary Guidance recommends that entities summarize that assessment and then voluntarily disclose that summary to the public. The section Technical Assistance to States contains no information collection and thus no associated burden.

The Voluntary Guidance is meant to help entities evaluate and achieve safety goals while assisting states and the public in understanding how safety is being considered by manufacturers and other entities developing and testing ADSs. By encouraging documentation, recordkeeping, and disclosures, NHTSA hopes to encourage safe system design while speeding the safe deployment of these potentially life-saving technologies and reducing crashes that occur on the nation's roadways.

As stipulated in the September 15, 2017 Federal Register notice announcing the proposed collection of information (81 FR 43450), the burden estimates are based on the Agency's present understanding of the ADS market and the time associated with following the Voluntary Guidance, generating a self-assessment, and voluntarily making a summary of that self-assessment public.

In summary, NHTSA believes there will be 60 respondents annually during the three years covered by this information collection request. The modification from the previous estimate considers the addition of new entrants as well as the fact that many entities have already begun testing automated vehicles and thus are already included in the figure. The adjustments of burden hours from the previously approved collection are a result of the following changes to the Voluntary Guidance: reducing the number of priority safety design elements for consideration from 15 to 12, removing data sharing from the data element in the Voluntary Guidance, and limiting the scope to SAE system levels 3-5 rather than levels 2-5. NHTSA estimates the total burden associated with conforming to the documentation and disclosure recommendations contained in the Voluntary Guidance would be 1,435 hours per manufacturer or entity per year. The estimated cost for following this Voluntary Guidance is $100 per hour. Therefore, the total annual cost is estimated to be $8,610,000 (1,435 hours × 60 respondents × $100/hour).

Affected Public: Business or other for-profit.

Estimated Number of Respondents: 60.

Estimated Number of Responses: 60.

Annual Estimated Total Annual Burden Hours: 86,100 hours.

Frequency of Collection: Annual.

NHTSA published a notice announcing the proposed collection of information pursuant to 44 U.S.C 3501 et seq. and providing a 60-day comment period (81 FR 43450). The Agency received 4 comments on this notice. Two of the four comments did not pertain to Automated Driving Systems, vehicles, automation technology, or the estimated burden associated with Automated Driving Systems 2.0. Rather, they provided comments regarding various other Congressional Acts previously passed. One of the four comments pertained to the Automated Driving Systems 2.0 document in general with no comments regarding paperwork burden.

The final of the four comments cited support for the implementation of ADS 2.0 and urges entities to implement the Voluntary Guidance. The commenter also maintains that “information sharing leads to transparency, which leads to public trust, and should be a clear part of a duty and responsibility to advance the safety of vehicles.” However, the commenter offers the information collection could be “inadequate for the agency to perform its functions related to the safety of ADSs.” This is based on the Department's removal of safety elements pertaining to Ethical Considerations, Privacy, and removal of Data Sharing from the Data Collection safety element as well as removing Level 2 ADSs from the scope of the Voluntary Guidance.

NHTSA and the Department focused the Voluntary Guidance on SAE Automation Levels 3 through 5 in order to focus on systems in which the system takes over full control of the vehicle, including monitoring of the environment. However, parts of the Voluntary Guidance could be applied to any level of automation, and NHTSA recommends companies use them for safe testing and development.

With respect to the changes in the safety elements, NHTSA reviewed the safety elements from the Federal Automated Vehicles Policy in conjunction with public comments and focused elements on those that affect motor vehicle safety, have consensus around acceptable considerations, and have feasible metrics for evaluation. As privacy is not directly relevant to motor vehicle safety and, generally, is under the protection of the Federal Trade Commission, this safety element was removed from the Voluntary Guidance. Ethical considerations, while essential to automated driving technology development, there is currently no consensus around acceptable ethical decision-making, and there are no metrics against which to evaluate. NHTSA plans to work with stakeholders to further research this area. Data sharing was removed from a safety element, as the agency has chosen to focus on data recording needed for crash reconstruction. NHTSA is working with industry to voluntarily collaborate on data sharing and appropriate new safety metric development. As such, NHTSA believes that removal of these safety elements and components does not diminish the usefulness of data that would be voluntarily disclosed through the Voluntary Safety Self-Assessment. And though these safety elements are currently not in the Voluntary Guidance, NHTSA continues to emphasize the importance of all these aspects of ADSs throughout design, testing, and deployment of ADSs.

It is important to note that the Automated Driving Systems 2.0: A Vision for Safety was effective on September 15, 2017, and is intended to be updated frequently. Therefore, the burden hours outlined in the 60-day notice and this subsequent 30-day notice are reflective of that version of the policy. If the agency significantly changes the burden with any future updates, further modifications will be sought.

The 60-day Federal Register notice published on September 15, 2017 estimated 50 respondents annually based on the number of entities registered to test in California as of August 30, 2017. The number of entities registered to test in California has since increased to 45 as of November 16, 2017. Thus, NHTSA has increased the estimated number of respondents annually from 50 to 60.

The actual number of burden hours estimated per entity each year has not changed since the September 15, 2017 Federal Register notice. That notice (81 FR 43450) detailed modifications to the calculation of burden hours (based on the limiting of scope and removal of safety elements) since the January 2017 OMB clearance for information collection.

Considering the increase in number of respondents and the same number of estimated burden hours per respondent, the total number of burden hours increased from 71,750 hours to 86,100 hours, and the total estimated annual cost from $7,175,000 to $8,610,000. This is the only change in burden hours since the previous 60-day notice.

Authority: 44 U.S.C. Section 3506(c)(2)(A).

Nathaniel Beuse,
Associate Administrator for Vehicle Safety Research.

[FR Doc. 2017-27273 Filed 12-18-17; 8:45 am]

BILLING CODE 4910-59-P